DEPARTMENT OF TRANSPORTATION

Federal Aviation Administration

Consensus Standards, Inspection and Maintenance of Aircraft Electrical Wiring Systems

AGENCY: Federal Aviation Administration, DOT.

ACTION: Notice of availability; request for comments.

SUMMARY: This notice announces the availability of two revised consensus standards relating to inspection and maintenance of aircraft electrical wiring systems. ASTM International Committee F39 on Aircraft Systems developed the revised standards with Federal Aviation Administration (FAA) participation. The consensus standards provide acceptable methods and procedures for inspection and maintenance of electrical wiring systems for normal, utility, acrobatic, and commuter category airplanes. By this notice, the FAA finds the revised standards as acceptable means of compliance to 14 CFR part 23 sections concerning electrical wiring systems.

DATES: Comments must be received on or before January 29, 2015.

ADDRESSES: Mail comments to: Federal Aviation Administration, Small Airplane Directorate, Continued Operational Safety, ACE-111, Attention: James Brady, Room 301, 901 Locust, Kansas City, Missouri 64106. Specify the standard being addressed by ASTM designation and title. Mark all comments: Consensus Standards Comments.

FOR FURTHER INFORMATION CONTACT: James Brady, Aerospace Engineer, Regulations and Policy Branch (ACE-111), Small Airplane Directorate, Aircraft Certification Service, Federal Aviation Administration, 901 Locust, Room 301, Kansas City, Missouri 64106; telephone (816) 329-4132; email: james.brady@faa.gov.

SUPPLEMENTARY INFORMATION: This notice announces the availability of two revised consensus standards that supersede previously accepted consensus standards relating to inspection and maintenance of aircraft electrical wiring systems. ASTM International Committee F39 on Aircraft Systems developed the revised standards. The FAA expects a suitable consensus standard to be reviewed periodically. This review cycle will result in a standard revision or reapproval. A standard is revised to make changes to its technical content or is reapproved to indicate a review cycle has been completed with no technical changes. A standard is issued under a fixed designation (e.g., F2696); the number immediately following the designation indicates the year of original adoption or, in the case of revision, the year of last revision. A number in parentheses following the year of original adoption or revision indicates the year of last reapproval. For example, F2353-05(2013) designates a standard that was originally adopted (or revised) in 2005 and reapproved in 2013. A superscript epsilon (ε) indicates an editorial change since the last revision or reapproval. A notice of availability (NOA) will only be issued for new or revised standards. Reapproved standards issued with no technical changes or standards issued with editorial changes only (i.e., superscript epsilon (ε)) are considered accepted by the FAA without need for an NOA.

Comments Invited: Interested persons are invited to submit such written data, views, or arguments, as they may desire. Communications should identify the consensus standard number and be submitted to the address specified above. All standards-related comments received on or before the closing date for comments will be forwarded to ASTM International Committee F39 for consideration. The standard may be changed in light of the comments received. The FAA will address all comments received during the recurring review of the consensus standard and will participate in the consensus standard revision process.

Background: Under the provisions of the revised Office of Management and Budget (OMB) Circular A-119, “Federal Participation in the Development and Use of Voluntary Consensus Standards and in Conformity Assessment Activities,” dated February 10, 1998, industry and the FAA have been working with ASTM International to develop consensus standards for the design, fabrication, modification, inspection, and maintenance of electrical systems installed on normal and utility category airplanes.

These consensus standards satisfy the FAA's goal for airworthiness certification and a verifiable minimum safety level for normal, utility, acrobatic, and commuter category airplanes. The FAA participates as a member of Committee F39 in developing these standards. The use of the consensus standard process assures government and industry discussion and agreement on appropriate standards for the required level of safety.

The Consensus Standards

The FAA finds the following new consensus standards acceptable for normal, utility, acrobatic, and commuter category airplanes. The consensus standards listed below may be used unless the FAA publishes a specific notification otherwise.

ASTM Designation F2696-14, titled: Standard Practice for Inspection of Aircraft Electrical Wiring Systems

ASTM Designation F2799-14, titled: Standard Practice for Maintenance of Aircraft Electrical Wiring Systems

Availability

ASTM International, 100 Barr Harbor Drive, Post Office Box C700, West Conshohocken, PA 19428-2959 copyrights these consensus standards. Individual reprints of this standard (single or multiple copies, or special compilations and other related technical information) may be obtained by contacting ASTM at this address, or at (610) 832-9585 (phone), (610) 832-9555 (fax), through service@astm.org (email), or through the ASTM Web site at http://www.astm.org. To inquire about standard content and/or membership or about ASTM International Offices abroad, contact Christine DeJong, Staff Manager for Committee F39 on Aircraft Systems: (610) 832-9736, cdejong@astm.org.

Issued in Kansas City, Missouri, on December 16, 2014.
Earl Lawrence,
Manager, Small Airplane Directorate, Aircraft Certification Service.

[FR Doc. 2014-30563 Filed 12-29-14; 8:45 am]

BILLING CODE 4910-13-P